DEPARTMENT OF THE TREASURY

Submission for OMB Review; Comment Request

November 6, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before December 15, 2008 to be assured of consideration.

Internal Revenue Service (IRS)

OMB Number: 1545-1209.

Type of Review: Extension.

Title: IA-83-90 (Final) Disclosure of Tax Return Information for Purposes of Quality or Peer Review; Disclosure of Tax Return Information Due to Incapacity or Death of Tax Return Preparer.

Description: These regulations govern the circumstances under which tax return information may be disclosed for purposes of conducting quality or peer reviews, and disclosures that are necessary because of the tax return preparer's death or incapacity.

Respondents: Private Sector.

Estimated Total Burden Hours: 250,000 hours.

OMB Number: 1545-1661.

Type of Review: Extension.

Title: REG-106010-98 (Final) Qualified Lessee Construction Allowance for Short-Term Leases.

Description: The regulations provide guidance with respect to Sec. 110, which provides a safe harbor whereby it will be assumed that a construction allowance provided by a lessor to a lessee is used to construct or improve lessor property when long-term property is constructed or improved and used pursuant to a short-term lease. The regulations also provide a reporting requirement that ensures that both the lessee and lessor consistently treat the property subject to the construction allowance as nonresidential real property owned by the lessor.

Respondents: Private Sector.

Estimated Total Burden Hours: 10,000 hours.

OMB Number: 1545-1418.

Type of Review: Extension.

Title: REG-154000-04 (Notice of Proposed Rulemaking Final and Temporary Regulations) Diesel Fuel and Kerosene Excise Tax; Dye Injection.

Description: In order for diesel fuel and kerosene that is used in a nontaxable use to be exempt from tax under section 4082(a), it must be indelibly dyed by use of a mechanical dye injection system that satisfies the requirement in the regulations.

Respondents: Private Sector.

Estimated Total Burden Hours: 1,400 hours.

OMB Number: 1545-1791.

Type of Review: Extension.

Form: 12339-A, 12339, 12339-B.

Title: Tax Check Waiver.

Description: The tax check waiver is necessary for the purpose of ensuring that all panel members are tax compliant. Information provided will be used to qualify or disqualify individuals to serve as panel members. The information will be used as appropriate by the Taxpayer Advocate service staff, and other appropriate IRS personnel.

Respondents: Individuals or households.

Estimated Total Burden Hours: 417 hours.

OMB Number: 1545-1941.

Type of Review: Extension.

Form: 3491.

Title: Consumer Cooperative Exemption Application.

Description: A cooperative uses Form 3491 to apply for exemption from filing information returns (Forms 1099-PATR) on patronage distributions of $10 or more to any person during the calendar year.

Respondents: Private Sector.

Estimated Total Burden Hours: 148 hours.

OMB Number: 1545-0295.

Type of Review: Extension.

Title: Notice 210 Preparation Instruction for Media Labels.

Description: Notice 210, Preparation Instructions for Media Labels, instructs the filers on how to prepare their own pressure sensitive label. This label must be attached to each and every piece of magnetic media to identify specific items needed so that the media can be processed by the Internal Revenue Service.

Respondents: Private Sector.

Estimated Total Burden Hours: 12,765 hours.

OMB Number: 1545-1275.

Type of Review: Extension.

Form Number:

Title: Limitations on Corporate Net Operating Loss Carryforwards (CO-45-91 Final).

Description: Section 1.382-9(d)(2)(iii) and (d)(4)(iv) allow a loss corporation to rely on a statement by beneficial owners of indebtedness in determining whether the loss corporation qualifies under section 382(l)(1)(5). Section 1.382-9(d)(6)(ii) requires a loss corporation to file an election if it wants to apply the regulations retroactively, or revoke a prior section 382(l)(1)(6) election.

Respondents: Private Sector.

Estimated Total Burden Hours: 200 hours.

Clearance Officer: Glenn P. Kirkland, (202) 622-3428, Internal Revenue Service, Room 6516, 1111 Constitution Avenue, NW., Washington, DC 20224.

OMB Reviewer: Nicholas A. Fraser, (202) 395-5887, Office of Management and Budget, Room 10235, New Executive Office Building, Washington, DC 20503.

Celina Elphage,
Treasury PRA Clearance Officer.

[FR Doc. E8-27017 Filed 11-13-08; 8:45 am]

BILLING CODE 4810-01-P